DEPARTMENT OF COMMERCE

Economic Development Administration

Notice of Petitions by Firms for Determination of Eligibility To Apply for Trade Adjustment Assistance

AGENCY: Economic Development Administration, Department of Commerce.

ACTION: Notice and Opportunity for Public Comment.

Pursuant to Section 251 of the Trade Act of 1974, as amended (19 U.S.C. 2341 et seq.), the Economic Development Administration (EDA) has received petitions for certification of eligibility to apply for Trade Adjustment Assistance from the firms listed below. Accordingly, EDA has initiated investigations to determine whether increased imports into the United States of articles like or directly competitive with those produced by each of these firms contributed importantly to the total or partial separation of the firm's workers, or threat thereof, and to a decrease in sales or production of each petitioning firm.

LIST OF PETITIONS RECEIVED BY EDA FOR CERTIFICATION OF ELIGIBILITY TO APPLY FOR TRADE ADJUSTMENT ASSISTANCE
[9/16/2010 through 9/23/2010]
Firm name | Address | Date accepted for investigation | Products
Custom Cable Crafters of Missouri, Inc. | 30 Shakertown Hall Lane, Perryville, MO 63775-9796 | 9/23/10 | The firm manufactures telecommunications assemblies in both copper and fiber optics.
ECRM, Inc. | 554 Clark Road, Tewksbury, MA 01876 | 9/17/10 | The firm designs, manufactures, markets and services high-resolution imaging systems.
Gunnebo Johnson Corporation | 1240 N. Harvard Street, Tulsa, OK 74115 | 9/16/10 | The firm manufactures pulley blocks, flywheels, and snatch blocks.
Melron Corporation | 8110 Technology Drive, Schofield, WI 54476-4523 | 9/23/10 | The firm manufacturers cast architectural metal hardware for the window manufacturing industry.
Mize and Co., Inc. | 2020 N. Koch Industrial Avenue, Kingman, KS 67068-0516 | 9/20/10 | The firm manufactures wire harnesses, bulk wire, welding cable, electric terminals, trailer lights, jumper cables using various wires, plastics, and rubber and metal components.
Niche Electronics Technologies, Inc. | 201 Dykeman Road, Shippensburg, PA 17257 | 9/20/10 | The firm manufactures printed circuit assemblies.
Pearce Pump Supply, Inc. | 16161 Airline Highway, Prairieville, LA 70769 | 9/22/10 | The firm manufactures centrifugal pumps for water supply, solids, and process control.
Sam M. Butler Inc. dba Service Thread Manufacturing Company | 504 King Street, Lauringburg, NC 28352 | 9/16/10 | The firm manufactures industrial threads/yarns for bag closing.
Samscreen, Inc. | 216 Broom Corporate Parkway, Conklin, NY 13748 | 9/16/10 | The firm manufactures and distributes piano wire, perforated plates and wear parts.
Solid Comfort, Inc. | 3931 37th Avenue South, Fargo, ND 58104 | 9/20/10 | The firm manufactures furniture made from raw materials that include solid wood and veneered laminated wood.
Top Drawer Components, Inc. | 5154 South Delaware Drive, Apache Junction, AZ 85220 | 9/22/10 | The firm manufactures cabinet doors and drawer boxes.
Vobeda Machine and Tool Company, Inc | 3801 Blue River Avenue, Racine, WI 53045 | 9/22/10 | The firm manufactures die casts.

Any party having a substantial interest in these proceedings may request a public hearing on the matter.

A written request for a hearing must be submitted to the Trade Adjustment Assistance for Firms Division, Room 7106, Economic Development Administration, U.S. Department of Commerce, Washington, DC 20230, no later than ten (10) calendar days following publication of this notice.

Please follow the requirements set forth in EDA's regulations at 13 CFR 315.9 for procedures to request a public hearing. The Catalog of Federal Domestic Assistance official number and title for the program under which these petitions are submitted is 11.313, Trade Adjustment Assistance for Firms.

Dated: September 23, 2010.
Miriam J. Kearse,
Program Team Lead.

[FR Doc. 2010-24442 Filed 9-28-10; 8:45 am]

BILLING CODE 3510-24-P